DEPARTMENT OF HEALTH AND HUMAN SERVICES

National Institutes of Health

National Institute on Deafness and Other Communication Disorders; Notice of Meeting

Pursuant to section 10(a) of the Federal Advisory Committee Act, as amended (5 U.S.C. Appendix 2), notice is hereby given of a meeting of the Board of Scientific Counselors, NIDCD.

The meeting will be open to the public as indicated below, with attendance limited to space available. Individuals who plan to attend and need special assistance, such as sign language interpretation or other reasonable accommodations, should notify the Contact Person listed below in advance of the meeting.

Name of Committee: Board of Scientific Counselors, NIDCD.

Date: March 30, 2001.

Time: 3 p.m. to 4:45 p.m.

Agenda: Program documents.

Place: 5 Research Court, Conference Room 2A07, Rockville, MD 20850, (Telephone Conference Call).

Contact Person: Robert J. Wenthold, Ph.D., Director, Division of Intramural Research, National Institute on Deafness and Other Communication Disorders, 5 Research Court, Room 2B28, Rockville, MD 20852, 301-402-2829.

(Catalogue of Federal Domestic Assistance Program Nos. 93.173, Biological Research Related to Deafness and Communicative Disorders, National Institutes of Health, HHS)

Dated: March 1, 2001.
Laverne Y. Stringfield,
Director, Office of Federal Advisory Committee Policy.

[FR Doc. 01-6032 Filed 3-9-01; 8:45 am]

BILLING CODE 4140-01-M